DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by July 22, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection information displays a currently valid OMB control number and the agency informs potential persons who are to respond to the collection of information that such person are not required to respond to the collection of information unless it displays a currently valid OMB control number.

Office of the Chief Financial Officer

Title: Information Collection Request; Representations Regarding Felony Conviction and Tax Delinquent Status for Corporate Applicants.

OMB Control Number: 0505-0025.

Summary of Collection: The Department of Agriculture (USDA) must comply with the restrictions set forth in Division E, Title VII §§ 744,745 of the Consolidated Appropriations Act, 2022, (Pub. L. 117-103, as amended and/or subsequently enacted), hereinafter Public Law 117-103. The restrictions apply to transactions with corporations that (1) have any “unpaid Federal tax liability that has been assessed, for which all judicial and administrative remedies have been exhausted or have lapsed, and that is not being paid in a timely manner pursuant to an agreement with the authority responsible for collecting the tax liability, where the awarding agency is aware of the unpaid tax liability and/or (2) were “convicted of a felony criminal violation under any Federal law within the preceding 24 months, where the awarding agency is aware of the conviction. The restrictions may not apply if a Federal agency considers suspension or debarment of the corporation and determines that such action is not necessary to protect the interests of the Government.

Need and Use of the Information: To comply with the appropriations restrictions, the information collection requires corporate applicants for USDA programs to represent accurately whether they have or do not have qualifying tax delinquencies or felony convictions which would prevent USDA from entering into a proposed business transaction with the corporate applicant. For nonprocurement programs and transactions, these representations will be submitted using the AD-3030—“Representations Regarding Felony Conviction or Tax Delinquent Status for Corporate Applicants” This form will normally be included as part of the application package.

This information assists the agencies and staff offices with identifying corporations with unpaid Federal tax liability and felony convictions status prior to entering into nonprocurement transactions for numerous Departmental programs. Failure to collect this information may cause inappropriate use of funds and violation of the Anti-Deficiency Act.

Descripton of Respondents: Corporate applicants for USDA nonprocurement programs, including grants, cooperative agreements, loans, loan guarantees, some memoranda of understanding/agreement, and nonprocurement contracts.

Number of Respondents: 75,580.

Frequency of Responses: Reporting: Other: Corporations—each time they apply to participate in a multitude of USDA nonprocurement programs.

Total Burden Hours: 37,790.

Ruth Brown,
Departmental Information Collection Clearance Officer.

[FR Doc. 2022-13304 Filed 6-21-22; 8:45 am]

BILLING CODE 3410-KS-P